DEPARTMENT OF ENERGY

Federal Energy Regulatory Commission

[Docket No. RP01-232-001]

Northwest Pipeline Corporation; Notice of Compliance Filing

May 18, 2001.

Take notice that on May 15 2001, Northwest Pipeline Corporation (Northwest) tendered for filing as part of its FERC Gas Tariff, Third Revised Volume No. 1, the following tariff sheets, to be effective August 16, 2001:

Sub Second Revised Sheet No. 16

Sub Fourth Revised Sheet No. 17

Sub Seventh Revised Sheet No. 18

Sub Second Revised Sheet No. 18-A

Sub First Revised Sheet No. 30

Fifth Revised Sheet No. 31

Fourth Revised Sheet No. 32

First Revised Sheet No. 33

Sub Second Revised Sheet No. 100

Sub Original Sheet No. 100-A

Sub Third Revised Sheet No. 254

Sub Fourth Revised Sheet No. 255

Sub Fourth Revised Sheet No. 256

Third Revised Sheet No. 257

Second Revised Sheet No. 311

Second Revised Sheet No. 312

Second Revised Sheet No. 322

Original Sheet No. 323

Sheet No. 324

Second Revised Sheet No. 357

Original Sheet No. 357-A

Northwest states that the purpose of this filing is to comply with the Commission's Order Accepting and Suspending Tariff Sheets, Subject to Refund and Conditions issued March 16, 2001 in Docket No. RP01-232-000 (Order). Northwest states that it has submitted (1) responses to the questions in the Order, and (2) revised tariff sheets pertaining to its facilities reimbursement procedures.

Northwest states that a copy of this filing has been served upon each person designated on the official service list compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-13091 Filed 5-23-01; 8:45 am]

BILLING CODE 6717-01-M